DEPARTMENT OF THE INTERIOR

Bureau of Land Management

[LLNV912000 L12100000.PH0000 LXSS0006F0000; 12-08807; MO#4500077623; TAS: 14X1109]

Notice of Public Meetings: Mojave-Southern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Mojave-Southern Great Basin Resource Advisory Council (RAC), will hold three meetings in Nevada in fiscal year 2015. The meetings are open to the public.

Dates and Times: April 24, BLM Southern Nevada District Office, 4701 N. Torrey Pines Dr., Las Vegas, Nevada; July 16-17, BLM Ely District, Caliente Field Office, 1400 S. Front Street, Caliente, Nevada; and Sept. 17, Beatty Community Center, 100 A Avenue South, Beatty, Nevada. Meeting times will be published in local and regional media sources at least 14 days before each meeting. All meetings will include a public comment period.

FOR FURTHER INFORMATION CONTACT: Chris Hanefeld, Public Affairs Specialist, Ely District Office, 702 N. Industrial Way, Ely, NV 89301, telephone: (775) 289-1842, email: chanefel@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15-member Council advises the Secretary of the Interior, through the BLM, on a variety of planning and management issues associated with public land management in Nevada. Topics for discussion at each meeting will include, but are not limited to:

• April 24 (Las Vegas)—Southern Nevada District Resource Management Plan, Southern Nevada Public Land Management Act and Transmission Corridors.

• July 16-17 (Caliente)—Ash Springs Recreation Area, and Mountain Biking and Trails Systems.

• September 17 (Beatty)—Battle Mountain District Resource Management Plan, and Mountain Biking and Trails Systems.

Managers' reports of field office activities will be given at each meeting. The Council may raise other topics at the meetings.

Final agendas will be posted on-line at the BLM Mojave-Southern Great Basin RAC Web site at http://bit.ly/MOSORAC and will be published in local and regional media sources at least 14 days before each meeting.

Individuals who need special assistance such as sign language interpretation or other reasonable accommodations, or who wish to receive a copy of each agenda, may contact Chris Hanefeld no later than 10 days prior to each meeting.

Rudy Evenson,
Deputy Chief, Office of Communications.

[FR Doc. 2015-06394 Filed 3-19-15; 8:45 am]

BILLING CODE 4310-HC-P